DEPARTMENT OF ENERGY

Notice of Availability of National Transmission Needs Study

AGENCY: Grid Deployment Office, Department of Energy.

ACTION: Notice of availability.

SUMMARY: The U.S. Department of Energy (DOE) gives notice of availability of the final “National Transmission Needs Study” (Needs Study) pursuant to the Federal Power Act, which requires DOE to conduct a study of electric transmission capacity constraints and congestion every three years. The Needs Study will inform the potential exercise of DOE's National Interest Electric Transmission Corridor designation authority and the use of other DOE authorities and funding related to electric transmission.

FOR FURTHER INFORMATION CONTACT: Dr. Adria Brooks, U.S. Department of Energy, Grid Deployment Office, via (202) 586-2006; or transmission@hq.doe.gov.

SUPPLEMENTARY INFORMATION: DOE's Grid Deployment Office (GDO) is announcing the availability of the “National Transmission Needs Study” (Needs Study). Section 216(a) of the Federal Power Act (FPA), as recently amended by section 40105 of the Infrastructure Investment and Jobs Act (IIJA), requires DOE to conduct a study of historic and anticipated future electric transmission capacity constraints and congestion every three years. The Needs Study implements that statutory provision and replaces what was formerly known as the National Electric Transmission Congestion Study.

Pursuant to section 216(a)(1), DOE has consulted with states, Tribes, and appropriate regional reliability entities regarding the Needs Study, including by providing a consultation draft in October 2022 for review and comment by these entities, holding a series of six audience-specific webinars following release of the consultation draft, and making available DOE staff for phone calls and meetings. On March 6, 2023, a draft Needs Study was made available for public comment. The draft Needs Study included revisions made in response to comments and input that DOE received from states, Tribes, and regional reliability entities. The final Needs Study incorporates feedback received during the public comment period held between March 6 and April 20, 2023.

Pursuant to section 216(a)(2) of the FPA, the study would inform any decision to exercise DOE's National Interest Electric Transmission Corridor designation authority. The Needs Study will also inform DOE as it coordinates the use of other authorities and funding related to electric transmission. These include new authorities under the IIJA and existing DOE programs, such as grid-related research and development and financing authorities that support grid infrastructure development. Members of the public can visit GDO's website to access the Needs Study at: www.energy.gov/gdo/national-transmission-needs-study.

Signing Authority

This document of the Department of Energy was signed on November 3, 2023, by Maria D. Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. The administrative process in no way alters the legal effect of this document upon publication in the Federal Register.

Signed in Washington, DC, on November 7, 2023.
Treena V. Garrett,
Federal Register Liaison Officer, U.S. Department of Energy.

[FR Doc. 2023-24898 Filed 11-9-23; 8:45 am]

BILLING CODE 6450-01-P